DEPARTMENT OF DEFENSE

Office of the Secretary

Defense Science Board

AGENCY: Department of Defense.

ACTION: Notice of advisory committee meetings.

SUMMARY: The Defense Science Board task force on Joint Professional Military Education will meet in closed session.

DATES: May 21-22, 2009.

ADDRESSES: SAIC, 4001 N. Fairfax Drive, Arlington, VA 22203.

FOR FURTHER INFORMATION CONTACT: CDR Kenneth Spurlock, Navy Military Assistant, Defense Science Board, 3140 Defense Pentagon, Room 3B888A, Washington, DC 20301-3140, via e-mail at Kenneth.spurlock@osd.mil, or via phone at (703) 571-0083.

SUPPLEMENTARY INFORMATION: The mission of the Defense Science Board is to advise the Secretary of Defense and the Under Secretary of Defense for Acquisition, Technology & Logistics on scientific and technical matters as they affect the perceived needs of the Department of Defense. At this meeting, the Board will discuss the identification of leader competencies—joint, service, and generic—to include parsing their inter-relationship; the current PME practices in the Services and joint communities; expansion of the JPME; service and joint community plans to modify JPME practices; how the Service and Joint PME programs support one another; advances in learning approaches and methods from academia, the private sector and other government agencies; the ability to administer JPME education in a more efficient and effective manner; and the ability to rapidly incorporate lessons learned from current operations into joint and Service JPME curricula.

In accordance with section 10(d) of the Federal Advisory Committee Act, Public Law 92-463, as amended (5 U.S.C. App. 2) and 41 CFR 102-3.155, the Department of Defense has determined that these Defense Science Board Quarterly meetings will be closed to the public. Specifically, the Under Secretary of Defense (Acquisition, Technology and Logistics), with the coordination of the DoD Office of General Counsel, has determined in writing that all sessions of these meetings will be closed to the public because they will be concerned throughout with matters listed in 5 U.S.C. 552b(c)(1) and (4).

Interested persons may submit a written statement for consideration by the Defense Science Board. Individuals submitting a written statement must submit their statement to the Designated Federal Official at the address detailed above, at any point; however, if a written statement is not received at least 10 calendar days prior to the meeting, which is the subject of this notice, then it may not be provided to or considered by the Defense Science Board. The Designated Federal Official will review all timely submissions with the Defense Science Board Chairperson, and ensure they are provided to members of the Defense Science Board before the meeting that is the subject of this notice.

Dated: March 31, 2009.
Patricia L. Toppings,
OSD Federal Register Liaison Officer, Department of Defense.

[FR Doc. E9-7597 Filed 4-3-09; 8:45 am]

BILLING CODE 5001-06-P